DEPARTMENT OF ENERGY

Federal Energy Regulatory Commission

[Project No. 12680-003]

Ocean Renewable Power Company, LLC; Notice of Intent To File Hydrokinetic Pilot Project License Application, Filing of Draft Application, Request for Waivers of Integrated Licensing Process Regulations Necessary for Expedited Processing of a Pilot Project License Application, and Soliciting Comments

August 7, 2009.

a. Type of Filing: Notice of Intent to File an Application for an Original License for a Hydrokinetic Pilot Project.

b. Project No.: 12680-003.

c. Dated Filed: July 24, 2009.

d. Submitted By: Ocean Renewable Power Company, LLC.

e. Name of Project: ORPC Eastport Tidal Energy Project.

f. Location: In Western Passage and Cobscook Bay in Eastport, Maine. The project would not occupy federal lands.

g. Filed Pursuant to: 18 CFR 5.3 of the Commission's regulations.

h. Applicant Contact: Christopher R. Sauer, Ocean Renewable Power Company, 2 Portland Fish Pier, Suite 307, Portland, Maine 04101, (207) 772-7707.

i. FERC Contact: Timothy Konnert (202) 502-6359.

j. Ocean Renewable Power Company (ORPC) has filed with the Commission: (1) A notice of intent (NOI) to file an application for an original license for a kinetic hydropower pilot project and a draft license application with monitoring plans; (2) a request for waivers of the integrated licensing process regulations necessary for expedited processing of a hydrokinetic pilot project license application; (3) a proposed process plan and schedule; (4) a request to be designated as the non-federal representative for section 7 of the Endangered Species Act (ESA) consultation; and (5) a request to be designated as the non-federal representative for section 106 consultation under the National Historic Preservation Act (NHPA) (collectively the pre-filing materials).

k. With this notice, we are soliciting comments on the pre-filing materials listed in paragraph j above, including the draft pilot license application and monitoring plans. All comments should be sent to the address above in paragraph h. In addition, all comments (original and eight copies) must be filed with the Commission at the following address: Kimberly D. Bose, Secretary, Federal Energy Regulatory Commission, 888 First Street, NE., Washington, DC 20426. All filings with the Commission must include on the first page, the project name (ORPC Eastport Tidal Energy Project) and number (P-12680-003), and bear the heading “Comments on the proposed ORPC Eastport Tidal Energy Project.” Any individual or entity interested in submitting comments on the pre-filing materials must do so by September 8, 2009.

Comments may be filed electronically via the Internet in lieu of paper. The Commission strongly encourages electronic filings. See 18 CFR 385.2001(a)(1)(iii) and the instructions on the Commission's Web site (http://www.ferc.gov) under the “e-filing” link.

l. With this notice, we are approving ORPC's request to be designated as the non-federal representative for section 7 of the Endangered Species Act (ESA) and its request to initiate consultation under section 106 of the National Historic Preservation Act; and recommending that it begin informal consultation with: (a) The U.S. Fish and Wildlife Service and the National Marine Fisheries Service as required by section 7 of ESA; and (b) the New York State Historic Preservation Officer, as required by section 106, NHPA, and the implementing regulations of the Advisory Council on Historic Preservation at 36 CFR 800.2.

m. This notice does not constitute the Commission's approval of ORPC's request to use the Pilot Project Licensing Procedures. Upon its review of the project's overall characteristics relative to the pilot project criteria, the draft license application contents, and any comments filed, the Commission will determine whether there is adequate information to conclude the pre-filing process.

n. The proposed ORPC Eastport Tidal Energy Project would consist of: (1) A single 1-megawatt (MW) hydrokinetic device in Cobscook Bay during Phase 1; (2) four additional 1-MW hydrokinetic devices in Western Passage during Phase 2; (3) underwater bundled cables from each device that would interconnect with a control room and station located on shore, one at Western Passage and one at Cobscook Bay; (4) a transmission line connecting the shore stations to the Eastport electrical grid; and (5) appurtenant facilities for operating and maintaining the project. The estimated annual generation of the proposed project during Phase 1 is 2,760 megawatt-hours (MWh) and 15,000 MWh during Phase 2.

o. A copy of the draft license application and all pre-filing materials are available for review at the Commission in the Public Reference Room or may be viewed on the Commission's Web site (http://www.ferc.gov), using the “eLibrary” link. Enter the docket number, excluding the last three digits in the docket number field to access the document. For assistance, contact FERC Online Support at FERCONlineSupport@ferc.gov or toll free at 1-866-208-3676, of for TTY, (202) 502-8659. A copy is also available for inspection and reproduction at the address in paragraph h.

p. Pre-filing process schedule. The pre-filing process will be conducted pursuant to the following tentative schedule. Revisions to the schedule may be made as appropriate.

Milestone | Date
Comments on pre-filing materials due | September 8, 2009.
Issuance of meeting notice (if needed) | September 23, 2009.
Public meeting/technical conference (if needed) | October 23, 2009.
Issuance of notice concluding pre-filing process and ILP waiver request determination | October 8, 2009 (if no meeting is needed) November 9, 2009 (if meeting is needed).

q. Register online at http://ferc.gov/esubscribenow.htm to be notified via e-mail of new filing and issuances related to this or other pending projects. For assistance, contact FERC Online Support.

Nathaniel J. Davis, Sr.,
Deputy Secretary.

[FR Doc. E9-19614 Filed 8-14-09; 8:45 am]

BILLING CODE 6717-01-P